ENVIRONMENTAL PROTECTION AGENCY

[FRL-7530-6]

EPA Science Advisory Board Staff Office; Request for Nomination of Members for the EPA Science Advisory Board (SAB), Clean Air Scientific Advisory Committee (CASAC), and the Advisory Council on Clean Air Compliance Analysis (COUNCIL)

AGENCY: Environmental Protection Agency (EPA).

ACTION: Notice.

SUMMARY: The U.S. Environmental Protection Agency's Science Advisory Board (SAB) Staff Office is soliciting nominations for Members to serve on the EPA Science Advisory Board (SAB), the Clean Air Scientific Advisory Committee (CASAC), and the Advisory Council on Clean Air Compliance Analysis (COUNCIL). Individuals responding to this annual request for nominations will be considered for membership vacancies on these three Congressionally mandated Federal advisory committees. This process supplements other efforts to identify qualified candidates.

DATES: Nominations should be submitted in time to arrive no later than August 18, 2003.

FOR FURTHER INFORMATION CONTACT: To submit a hard copy of the form noted below (for those unable to submit the information in electronic form), please contact Ms. Diana Pozun, U.S. EPA Science Advisory Board Staff Office (Mail Code 1400A), 1200 Pennsylvania Avenue, NW., Washington, DC 20460 (FedEx/Courier address: U.S. EPA SAB, Suite 6450, 1200 Pennsylvania Avenue, NW., Washington DC 20004), (202) 564-4544 (tel.), (202) 501-0323 (fax), or via email at pozun.diana@epa.gov.

For further information concerning this nomination process, please contact Mr. Robert Flaak, Acting Deputy Director for Management, U.S. EPA Science Advisory Board Staff Office, (202) 564-4546 (tel.), or via email at: flaak.robert@epa.gov.

SUPPLEMENTARY INFORMATION: Background—The SAB (42 U.S.C. 4365), CASAC (42 U.S.C. 7409) and COUNCIL (42 U.S.C. 7612) are chartered Federal Advisory Committees that report directly to the EPA Administrator. The mission of these Federal advisory committees, as established by statute, is to provide independent scientific and technical peer review advice, consultation, and recommendations to the EPA Administrator on the technical bases for EPA actions. Additional information about these Federal Advisory Committee can be obtained on the SAB Web site (http://www.epa.sab/gov).

Members serve as Special Government Employees (SGEs) (40 CFR part 3, subpart F, or EPA Ethics Advisory 88-6 dated 7/6/88) and receive compensation, in addition to reimbursement at the Federal government rate for travel and per diem expenses while serving on the SAB, CASAC, and COUNCIL. SGEs are subject to certain ethical standards common to all Federal employees. In particular, prior to their appointment, SGEs are required to complete an information package, including a Confidential Financial Disclosure Report.

Expertise Sought—As part of the annual membership drive, the EPA SAB Staff Office is seeking nominations for nationally and internationally recognized non-Federal scientists, engineers, economists, and social scientists with demonstrated research and applied scientific experience and expertise in various disciplinary areas that address ecological and/or environmental/public health challenges, a multitude of stressors (e.g., physical, biological and chemical agents and mixtures) impacting environmental media (e.g., air, water, land), monitoring and characterizing sources of pollution, assessing risk to ecosystem and/or human health, prevention and risk management technologies, risk communication, environmental data quality, assessing environmental social economic values and cost-benefit analyses.

The selected experts will be appointed by the EPA Administrator to serve on the CASAC, COUNCIL, the SAB Executive Committee, and/or the SAB's standing committees (e.g., Drinking Water Committee, Ecological Processes and Effects Committee, Environmental Economics Advisory Committee, Environmental Engineering Committee, Environmental Health Committee, Integrated Human Exposure Committee, Radiation Advisory Committee, and Research Strategies Advisory Committee).

How to Apply—Any interested person or organization may nominate qualified persons to serve on the SAB. Individuals may self-nominate. Nominees should be qualified by scientific education, training, and experience to evaluate scientific, engineering and/or economics information on issues referred to and addressed by the SAB. Successful candidates have distinguished themselves professionally and should be available to invest the time and effort to advance the cause of the supporting the use of good science through the efforts of the SAB. Nominations should be submitted in electronic format (which is preferred over hard copy) through the Form for Nominating Individuals to Panels of the EPA Science Advisory Board provided on the SAB Web site. The form can be accessed through a link on the blue navigational bar on the SAB Web site, http://www.epa.gov/sab/. To be considered, all nominations should include the information requested on that form.

The nominating form requests contact information about the person making the nomination; contact information about the nominee; the disciplinary and specific areas of expertise of the nominee; the nominee's resume; and a general biosketch of the nominee indicating education, expertise, past research, recent service on other advisory committees or with professional associations, and recent grant and/or contract support.

Anyone who has any question concerning any aspect of the nomination process may contact Mr Robert Flaak as indicated above in this FR notice. Anyone who is unable to submit nominations through the SAB Web site should contact Ms. Diana Pozun as indicated above in this FR notice. Non-electronic submissions must follow the same format and contain the same information as the electronic form.

The EPA Science Advisory Board Staff Office will acknowledge receipt of nominations. From the nominees identified by respondents to this Federal Register notice and through other sources, the SAB Staff Office will develop a list of recommended candidates to submit to the EPA Administrator for selection as Members.

The EPA SAB seeks the inclusion of candidates who possess the necessary domains of knowledge, the relevant scientific perspectives (which, among other factors, can be influenced by work history and affiliation), and the collective breadth of experience to adequately address the issues facing the Agency. Specific criteria to be used in evaluating potential Members include: (a) Scientific and/or technical expertise, knowledge, and experience (primary factors); (b) absence of financial conflicts of interest; (c) scientific credibility and impartiality; (d) availability and willingness to serve; and (e) ability to work constructively and effectively in committees.

Those candidates ultimately chosen to serve as Members will be appointed as Special Government Employees. As a result, they will all be required to fill-out the “Confidential Financial Disclosure Form for Special Government Employees Serving on Federal Advisory Committees at the U.S. Environmental Protection Agency” (EPA Form 3110-48). This confidential form allows Government officials to determine whether there is a statutory conflict between that person's public responsibilities as a Special Government Employee and private interests and activities, or the appearance of a lack of impartiality, as defined by Federal regulation. The form may be viewed and downloaded from the following URL address: http://www.epa.gov/sab/pdf/epaform3110-48.pdf. This form should not be submitted as part of a nomination.

Dated: July 10, 2003.
Vanessa T. Vu,
Director, EPA Science Advisory Board Staff Office.

[FR Doc. 03-18157 Filed 7-17-03; 8:45 am]

BILLING CODE 6560-50-P